DEPARTMENT OF ENERGY

Federal Energy Regulatory Commission

[Docket No. AD12-8-000]

Non-RTO/ISO Performance Metrics; Commission Staff Request Comments on Performance Metrics for Regions Outside of RTOs and ISOs

In September 2008, the United States Government Accountability Office (GAO) issued a report titled “Electricity Restructuring: FERC Could Take Additional Steps to Analyze Regional Transmission Organizations' Benefits and Performance,” GAO-08-987. This report recommended that the Chairman of the Federal Energy Regulatory Commission (Commission or FERC), among other actions, work with regional transmission organizations (RTO), Independent System Operators (ISO), stakeholders and other experts to develop standardized measures that track the performance of RTO/ISO operations and markets and report the performance results to Congress and the public annually, while also providing interpretation of (1) what the measures and reported performance communicate about the benefits of RTOs and, where appropriate, (2) changes that need to be made to address any performance concerns. Consistent with the goals outlined in GAO's report, the Commission's Strategic Plan for Fiscal Years 2009-2014 outlined a multi-year process for developing and implementing a common set of performance measures for markets both within and outside of ISOs/RTOs.

As recommended by GAO, Commission staff worked with representatives from all the jurisdictional ISOs/RTOs to develop a set of performance metrics for ISOs and RTOs. Commission staff and ISO/RTO representatives met with interested stakeholders to solicit their perspectives and comments on the proposed performance metrics. Commission staff then released the proposed metrics for public comment in Docket No. AD10-5-000. In October 2010, Commission staff issued a staff report addressing the comments received and recommending a final list of metrics for ISOs and RTOs. In December 2010, the ISOs and RTOs submitted information for the 2005-2009 period addressing the final metrics developed by Commission staff. This information, along with a staff report and analysis of performance as measured by the metrics, was included in a report sent to Congress in April 2011. The ISOs and RTOs subsequently submitted a report providing data for the 2006-2010 period.

Now, Commission staff has started the process of developing metrics to measure performance in regions outside of ISOs and RTOs. Consistent with the process used in developing metrics for ISO/RTO markets, Commission staff has worked with the Edison Electric Institute (EEI) and its members to develop a set of performance metrics for regions outside of ISOs and RTOs. Commission staff, along with EEI and its members, met with interested stakeholders to solicit their perspectives and comments on the proposed performance metrics. These metrics are based on the metrics previously selected in Docket No. AD10-5, but have been tailored to fit markets outside of ISOs and RTOs. We expect that those entities that decide to provide information in response to the final metrics developed in this proceeding will provide data and explain performance trends in a manner consistent with the responses provided by the ISOs and RTOs in Docket No. AD10-5.

Commission staff requests comments on whether the proposed performance metrics (attached) will effectively track the performance of markets outside of ISOs and RTOs. Comments must be filed on or before May 1, 2012. Reply comments must be filed on or before May 16, 2012.

Addresses: Parties may submit comments, identified by Docket No. AD12-08-000, by one of the following methods.

Agency Web site: http://www.ferc.gov/. Follow the instructions for submitting comments via the eFiling link found under the “Documents and Filing” tab.

Mail: Those unable to file comments electronically may mail or hand-deliver comments to: Federal Energy Regulatory Commission, Secretary of the Commission, 888 First Street NE., Washington, DC 20426.

For Further Information Contact: Jeffrey Hitchings, Office of Energy Market Regulation, Federal Energy Regulatory Commission, 888 First Street NE., Washington, DC 20426, Telephone: (202) 502-6042, Email: jeffrey.hitchings@ferc.gov or Stephen J. Hug, Office of the General Counsel—Energy Markets, Federal Energy Regulatory Commission, 888 First Street NE., Washington, DC 20426, Telephone: (202) 502-8009, Email: stephen.hug@ferc.gov.

Information Collection Statement

The following collection of information contained in these proposed metrics is subject to review by the Office of Management and Budget (OMB) under section 3507 of the Paperwork Reduction Act of 1995.¹ OMB's regulations require approval of certain information collection requirements imposed by agency actions.² The Commission solicits comments on the Commission's need for this information, whether the information will have practical utility, the accuracy of the burden estimates, ways to enhance the quality, utility, and clarity of the information to be collected or retained, and any suggested methods for minimizing respondents' burden, including the use of automated information techniques.

¹ 44 U.S.C. 3507 (2006). The Paperwork Reduction Act requires OMB approval of certain information collection activities when these activities apply to 10 or more persons. Because it is estimated that 11 entities will respond to this collection the Commission is requesting approval from OMB.

² 5 CFR part 1320 (2011).

The proposed collection of information requires those public utilities outside of ISOs and RTOs that choose to participate to provide information responding to the attached metrics on a periodic basis. This includes the submission of price data and information relating to reliability, transmission planning, requests for service, and system capacity. The information submitted by participating utilities would be used to help develop a common set of metrics for both ISO/RTO markets and non-RTO/ISO markets, and for evaluating market performance thereafter.

Burden Estimate: The additional estimated public reporting burdens for the proposed reporting requirements in this rule are as follows.

FERC-922 requirements | Number of respondents annually | Number of responses per respondent | Average burden hours per response | Total annual burden hours
| (1) | (2) | (3) | (1) × (2) × (3)
Metrics Data Collection | 11 | 1 | 80 | 880
Write Performance Analysis | 11 | 1 | 60 | 660
Total |  |  |  | 1,540

We estimate that it will take, on average, one technical analyst two weeks to collect the data to respond to the metrics. We also estimate that it will take one technical analyst one week to write a report responding to the metrics and it will take one manager approximately 20 hours to review the report.

Cost to Comply: The Commission has projected the cost of compliance to be $106,920.

Technical Expertise = $89,760 (880 hours data collection + 440 hours report completion @ $68 per hour).

Management Review = $17,160 (220 hours report review @ $78 per hour).

Cost per hour figures are calculated using Bureau of Labor Statistics (BLS) data.³ The technical expertise category factors in the median wage for an engineer, analyst, attorney and economist. The management category factors in the median wage for general and operations managers. Based on BLS data,⁴ both cost figures have been adjusted to include benefits (benefits represent 29.5% of the total hourly figure).

³ See http://bls.gov/oes/current/naics4_221100.htm#(3).

⁴ See http://www.bls.gov/news.release/ecec.nr0.htm.

Title: FERC-922, Non-RTO/ISO Performance Metrics.

Action: Proposed Collection.

OMB Control No. TBD.

Internal Review: The Commission has reviewed the proposed metrics and has determined that the metrics and data gathered thereunder are necessary. These requirements conform to the Commission's need for efficient information collection, communication, and management within the energy industry. The Commission has assured itself, by means of internal review, that there is specific, objective support for the burden estimates associated with the information collection requirements.

Interested persons may obtain information on the reporting requirements by contacting the following: Federal Energy Regulatory Commission, 888 First Street NE., Washington, DC 20426 [Attention: Ellen Brown, Office of the Executive Director], email: DataClearance@ferc.gov, Phone: (202) 502-8663, fax: (202) 273-0873. Comments on the collections of information and the associated burden estimates in this proceeding should be sent to the Commission in this docket and may also be sent to the Office of Information and Regulatory Affairs, Office of Management and Budget, Washington, DC 20503 [Attention: Desk Officer for the Federal Energy Regulatory Commission]. For security reasons, comments to OMB should be submitted by email to: oira_submission@omb.eop.gov. Comments submitted to OMB should include Docket Number AD12-08-000 and FERC-922.

Dated: February 23, 2012.
Kimberly D. Bose,
Secretary.

Attachment

Proposed Performance Metrics for Non-ISO/RTO Regions
[Based on ISO/RTO metrics from Docket No. AD10-5-000]
Performance metric | Specific metric(s)
Reliability
A. National or Regional Reliability Standards Compliance | 1. References to which Electricity Reliability Organization (ERO) and Regional Reliability Organization (RRO) standards are applicable. 2. Number of violations self-reported and made public by NERC/FERC.
| 3. Number of violations identified and made public as RRO or ERO audit findings.
| 4. Total number of violations made public by NERC/FERC.
| 5. Severity level of each violation made public by NERC/FERC.
| 6. Compliance with operating reserve standards.
| 7. Unserved energy (or load shedding) caused by violations. Additional detail will be provided on (1) number of events; (2) duration of the events; (3) whether the events occurred during on/off-peak hours; and (4) additional information on equipment types affected and kV of lines affected.
| Items 2-7: Track the ISO/RTO definition: “This metric is a quantification of all NERC and RRO Reliability Standards violations that have been identified during an audit or as a result of an ISO/RTO self-report and have been published as part of that process.”
| Non-ISO/RTO utilities should limit reporting to the same eight functional areas used by the ISO/RTOs:
| 1. Balancing Authority.
| 2. Interchange Authority.
| 3. Planning Authority.
| 4. Reliability Coordinator.
| 5. Resource Planner.
| 6. Transmission Operator.
| 7. Transmission Planner.
| 8. Transmission Service Provider.
B. Dispatch Reliability | 1. Balance Authority Ace Limit (BAAL) OR// CPS1 and CPS2.
| 2. Number of events of transmission load reliefs (of severity level 3 or higher) called by the incumbent transmission provider or unscheduled flows.
| • WECC entities will report events under the WECC Unscheduled Flow Mitigation Procedure (equivalent to the NERC TLR Level three).
| 3. Energy Management System (EMS) availability.
C. Operational Planning—Load Forecast Accuracy | Actual peak load as a percentage variance from forecasted peak load as reported in OASIS.
D. Wind Forecasting Accuracy | Actual wind availability compared to forecasted wind availability.
E. Unscheduled Flows | Difference between net actual interchange (actual measured power flow in real time) and the net scheduled interchange in megawatt hours.
| • Reported in Form 714.
F. Transmission Outage Coordination | Report information posted on OASIS (percentage of outages, planned and unplanned, with less than 2 days notice).
G. Long-Term Reliability Planning—Transmission | 1. Dollar amount of facilities approved to be constructed for reliability purposes. 2. Percentage of approved construction completed.
| 3. Performance of planning process related to:
| a. Requests for and number of completed reliability studies.
| b. Narrative detailing economic studies process.
| Discussion of stakeholder process and identification of stakeholder groups participating.
H. Long-Term Reliability Planning—Resources | 1. Processing time for generation interconnection requests. 2. Planned reserve margins.
| 3. Explanation of the nature and characteristics of demand response programs and how they are used in system planning.
I. Infrastructure Investment—Interconnection and Transmission Process Metrics | 1. Number of requests. 2. Number of studies completed. 3-5. Total cost and types of studies completed (e.g., feasibility study, system impact study and facility study).
| 6. Number of transmission access denials/transmission service requests (TSRs) denied.
J. Special Protection Systems | 1. Number of special protection systems.
| 2. Percentage of special protection systems that responded as designed when activated.
| • Applicable pool of special protection systems should be based on how the reporting entity's Regional Entity defines “special protection systems.”
| 3. Number of unintended activations.
System Operations Measures
A. Demand Response | Comprehensive explanation of the nature of utility demand response programs implemented for load management as well as in compliance with state requirements.
B. System Lambda | System Lambda (on marginal unit).
| • Proposed System Lambda metric would not apply to utilities where the marginal price is typically set by hydro units.
| • System lambda data will be based on Form 714 information.
C. Congestion Management | Congestion analysis per Order No. 890.
D. Resource Availability | System forced outage rate as measured over 12 months.
E. Transmission System Availability | Interrupted load megawatt hours as a percentage of load served.
F. Fuel Diversity | Fuel diversity in terms of energy, installed capacity and actual production.
G. Clean Energy | 1. Clean Energy megawatt hours, by resource type, as a percentage of total energy.
| 2. Clean Energy megawatts, by resource type, as a percentage of total capacity.
Organizational Effectiveness
Not applicable to non-RTO entities

[FR Doc. 2012-5004 Filed 3-1-12; 8:45 am]

BILLING CODE 6717-01-P